DEPARTMENT OF JUSTICE

Office of Justice Programs

[OJP (NIJ) Docket No. 1749]

Recognizing Private Sector Certification Programs for Criminal Justice Restraints

AGENCY: National Institute of Justice, Justice.

ACTION: Notice.

SUMMARY: The National Institute of Justice (NIJ) has been transitioning certification of restraints and handcuffs from an NIJ-operated program to recognition of private sector programs, as previously reported in the Federal Register (https://federalregister.gov/a/2017-14638). NIJ recognizes the following certification program for restraints as in compliance with Minimum Scheme Requirements to Certify Criminal Justice Restraints Described in NIJ Standard 1001.00: Safety Equipment Institute, Inc., 1307 Dolley Madison Boulevard, Suite 3A, McLean, VA 22101, Telephone: (703) 442-5732, Fax: (703) 442-5756, Email: info@seinet.org, http://www.seinet.org/.

FOR FURTHER INFORMATION CONTACT: Mark Greene, Policy and Standards Division Director, Office of Science and Technology, National Institute of Justice, 810 7th Street NW, Washington, DC 20531; telephone number: (202) 307-3384; email address: mark.greene2@usdoj.gov.

SUPPLEMENTARY INFORMATION: Criminal justice agencies may still obtain NIJ's Compliant Products List (CPL) for metallic handcuffs that are compliant with NIJ Standard 0307.01 via the contact information below until December 31, 2018 by sending a request from an agency email address. While the CPL has remained published during the transition period, agencies should be aware that NIJ discontinued the metallic handcuffs Compliance Test Program on September 14, 2016 (https://www.federalregister.gov/d/2016-22057) and the CPL has not been updated since then. For criminal justice agencies wishing to purchase or procure restraints certified to meet NIJ Standard 1001.00, NIJ suggests the following procurement language: “Restraints tested in accordance with NIJ Standard 1001.00 and certified by a certification body recognized by the National Institute of Justice.” Please note that restraints are certified by the NIJ-recognized private sector organization. They are not certified by NIJ, and the products should not be referred to as “NIJ certified.” More information on NIJ Standard 1001.00, Criminal Justice Restraints Standard, and certification of restraints may be found at https://nij.gov/topics/technology/standards-testing/Pages/restraints.aspx, or by using the shortened link https://go.usa.gov/xU2Ay.

David B. Muhlhausen,
Director, National Institute of Justice.

[FR Doc. 2018-17467 Filed 8-14-18; 8:45 am]

BILLING CODE 4410-18-P